ENVIRONMENTAL PROTECTION AGENCY

[ER-FRL-8989-3]

Environmental Impacts Statements; Notice of Availability

Responsible Agency: Office of Federal Activities, General Information (202) 564-1399 or http://www.epa.gov/compliance/nepa/.

Weekly receipt of Environmental Impact Statements

Filed 03/15/2010 Through 03/19/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100087, Final EIS, USFS, NV, Bridgeport Travel Management Project, To Provide the Primary Framework for Sustainable Management of Motor Vehicle Use on the Bridgeport Ranger District, Humboldt-Toiyabe National Forest, Mono County, CA and Lyon, Douglas, and Mineral Counties, NV, Wait Period Ends: 04/26/2010, Contact: James Winfrey, 775-355-5308.

EIS No. 20100088, Final EIS, USFS, ID, Small-Scale Suction Dredging in Lolo Creek and Moose Creek Project, Updated Information to Analysis Three Alternatives, Clearwater National Forest, North Fork Ranger District, Clearwater and Idaho Counties, ID, Wait Period Ends: 04/26/2010, Contact: Douglas Gober, 208-476-4541.

EIS No. 20100089, Draft EIS, STB, AK, Port MacKenzie Rail Line Extension Construction and Operation, Alaska Railroad Corporation, Port MacKenzie, AK, Comment Period Ends: 05/10/2010, Contact: Dave Navecky 202-245-0294 EIS No. 20100090, Third Draft EIS (Tiering), USFS, OR, Mt. Ashland Ski Area Expansion, To Address Matters Identified by the Ninth Circuit Court of Appeals for the Existing 2004 FEIS, Ashland Ranger District, Rogue River National Forest and Scott River Ranger District, Klamath National Forest, Jackson County, OR, Comment Period Ends: 05/10/2010, Contact: Steve Johnson, 541-552-2900.

EIS No. 20100091, Final EIS, USFS, MT, Bozeman Municipal Watershed Project, To Implement Fuel Reduction Activities, Bozeman Ranger District, Gallatin National Forest, City of Bozeman Municipal Watershed, Gallatin County, MT, Wait Period Ends: 04/26/2010, Contact: Jim Devitt, 406-587-6749.

EIS No. 20100092, Final EIS, USFS, CA, Shasta-Trinity National Forest Motorized Travel Management Project, Proposal to Prohibit Cross-County Motor Vehicle Travel off Designated National Forest Transportation System (NFTS) Roads, Motorized Trails and Areas by the Public Except as Allowed by Permit or other Authorization (excluding snowmobile use), CA, Wait Period Ends: 04/26/2010, Contact: Tom Kisanuki, 530-226-2421.

EIS No. 20100093, Draft EIS, NRC, TX, South Texas Project, Electric Generating Station Units 3 and 4, Application for Combined Licenses (COLs) for Construction Permits and Operating Licenses, Matagorda County, TX, Comment Period Ends: 06/09/2010, Contact: Jessie M. Muir, 301-415-0491.

EIS No. 20100094, Final EIS, NRC, VA, North Anna Power Station Unit 3, Combined License (COL) application for Construction and Operation of a Based-Load Nuclear Power Plant, (NUREG-1917), in the Town of Mineral, Louisa County, VA, Wait Period Ends: 04/26/2010, Contact: Alicia Williamson, 301-415-1878.

EIS No. 20100095, Final EIS, FHWA, WI, WI-15 Expansion, from New London to Greenville, Funding, U.S. Army COE 404 Permit, Outagamie County, WI, Wait Period Ends: 04/26/2010, Contact: Allen Radliff, 608-829-7500.

EIS No. 20100096, Draft EIS, BLM, CA, Imperial Sand Dunes Recreation Area Management Plan, Implementation, Imperial County, CA, Comment Period Ends: 06/23/2010, Contact: Erin Dreyfuss, 916-978-4642.

Amended Notices

EIS No. 20090362, Draft EIS, DOE, WA, Hanford Site Tank Closure and Waste Management Project, Implementation, Richland, Benton County, WA, Comment Period Ends: 05/03/2010, Contact: Mary Beth Burandi, 888-829-6347. Revision to FR Notice Published 10/30/2009: Extending Comment Period from 03/19/2010 to 05/03/2010.

EIS No. 20100077, Final EIS, USFWS, NV, Southeastern Lincoln County Habitat Conservation Plan, Application Package for Three Incidental Take Permits, Authorize the Take of Desert Tortoise (Gopherus agassizii) and Southwestern Williow Flycatcher (Empidonax traillii extimus), Implementation, Lincoln County, NV, Wait Period Ends: 04/19/2010, Contact: John Robles, 916-414-6731. Revision FR Notice Published 03/19/2010: Correction to Comment Due Date from 05/03/2010 to 04/19/2010.

EIS No. 20100079, Revised Draft EIS, FRA, SC, VOID-Bay Area to Central Valley High-Speed Train (HST) Project, Additional Information and Analysis Needed for Compliance with the Court Judgement, Provide a Reliable High-Speed Electrified Train System to Link Bay Area Cities to the Central Valley, Sacramento, and South California, Comment Period Ends: 05/03/2010, Contact: Dan Leavitt, 916-324-1541. This DEIS was inadvertently filed and published in 03/19/2010 FR. This is a State document which is not required to be filed with EPA.

Dated: March 23, 2010.
Ken Mittelholtz,
Deputy Director, NEPA Compliance Division, Office of Federal Activities.

[FR Doc. 2010-6772 Filed 3-25-10; 8:45 am]

BILLING CODE 6560-50-P